DEPARTMENT OF LABOR

Occupational Safety and Health Administration

[Docket No. OSHA-2009-0025]

UL LLC: Grant of Expansion of Recognition

AGENCY: Occupational Safety and Health Administration (OSHA), Labor.

ACTION: Notice.

SUMMARY: In this notice, OSHA announces the final decision to expand the scope of recognition for UL LLC as a Nationally Recognized Testing Laboratory (NRTL).

DATES: The expansion of the scope of recognition becomes effective on September 26, 2023.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2300 or email: robinson.kevin@dol.gov.

SUPPLEMENTARY INFORMATION:

I. Notice of Final Decision

OSHA hereby gives notice of the expansion of the scope of recognition of UL LLC (UL) as a NRTL. UL's expansion covers the addition of 42 test sites to its NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition, as well as for an expansion or renewal of recognition, following requirements in Appendix A to 29 CFR 1910.7. This appendix requires that the agency publish two notices in the Federal Register in processing an application. In the first notice, OSHA announces the application and provides the preliminary finding. In the second notice, the agency provides the final decision on the application. These notices set forth the NRTL's scope of recognition or modifications of that scope. OSHA maintains an informational web page for each NRTL, including UL, which details that NRTL's scope of recognition. These pages are available from the OSHA website at http://www.osha.gov/dts/otpca/nrtl/index.html.

UL submitted an application, dated January 20, 2021 (OSHA-2009-0025-0050), requesting the conversion of 42 existing Satellite Notification Acceptance Program (SNAP) sites to recognized sites under the NRTL Policy for Transitioning to Satellite Notification and Acceptance Program Termination (SNAP Transition Policy) published in the Federal Register on November 24, 2020 (85 FR 75042), as amended by a June 22, 2022 Memorandum from James S. Frederick, Deputy Assistant Secretary for Occupational Safety and Health, to Regional Administrators and Executive Staff, titled “Second Revision to the Nationally Recognized Testing Laboratory (NRTL) Policy for Transitioning to Satellite Notification and Acceptance Program (SNAP) Termination.”

OSHA published the preliminary notice announcing UL's expansion application in the Federal Register on August 16, 2023 (88 FR 55734). The agency requested comments by August 31, 2023, but it received no comments in response to this notice. OSHA is now proceeding with this final grant of expansion of UL's NRTL recognition.

To obtain or review copies of all public documents pertaining to the UL application, go to http://www.regulations.gov or contact the Docket Office, Occupational Safety and Health Administration, U.S. Department of Labor. Docket No. OSHA-2009-0025 contains all materials in the record concerning UL's recognition. All submissions, including copyrighted material, are available for inspection through the OSHA Docket Office. Contact the OSHA Docket Office at (202) 693-2350 for assistance in locating docket submissions.

II. Final Decision and Order

OSHA staff examined UL's expansion application, its capability to meet the requirements of the test standards, and other pertinent information. Based on its review of this evidence, OSHA finds that UL meets the requirements of 29 CFR 1910.7 for expansion of its recognition, subject to the specified limitations and condition. OSHA limits the expansion of UL's recognition to include the 42 sites listed in Table 1, below. This limitation is consistent with the recognition that OSHA grants to other NRTLs that operate multiple sites.

Table 1—List of Test Sites for Inclusion in UL's NRTL Scope of Recognition
UL site name | Address | Country
Auckland | 54 Tarndale Grove 106 Bush Road Unit 1, Block 1, Albany, Auckland, New Zealand 0632 | New Zealand
Bangalore | 3rd Floor, Block 1, No. 24 Kalyani Platina EPIP Zone, Phase II, Bangalore, Karnataka 560066, India | India
Barcelona | C/Caravel-la la Nina 12 3 Planta 08017, Barcelona, Spain 08017 | Spain
Milan | Via Europa 5/7/9 & 28, Cabiate-CO, Milan, Italy 22060 | Italy
Changzhou | No. 21 Longmen Road National High-Tech, Industrial Development District, Wujin, Changzhou, Jiangsu China 213614 | China
Plano | 801 Klein Road, Suite 200, Plano, Texas 75074 | United States
Dubai | Premises 222-224, 2nd Floor, DSP Laboratory Complex Dubai Science Park, Al Barsha, Dubai, 345831 United Arab Emirates | United Arab Emirates
Edmonton | 1040 Parsons Road SW Edmonton, Alberta Canada T6X 0J4 | Canada
Fremont | 47173 Benicia Street, Fremont, California 94538 | United States
Holland | 3480 Windquest Drive, Holland, Michigan 49424 | United States
Gurugram | A-12 Section 34, Infocity-1, Gurugram, Haryana India 122001 | India
Istanbul | Gursel Mah. Yesiltepe Sok No. 34, ERG Is Merkezi, 80260 Kat 3&6, Instanbul, Turkey 34400 | Turkey
Singapore | 20 Kian Teck Lane, Singapore 627 854 | Singapore
Basingstoke | Units 1-4, Horizons, Wade Road, Kingsland Business Park, Basingstoke, Hampshire, United Kingdom RG24 8AH | United Kingdom
Brea | 1075 West Lambert Road, Suite B, Brea, California 92821 | United States
Subang Jaya | Suite 9.01, Level 9, Menara Summit, Persiaran Kewajipan, USJ 1, UEP Subang Jaya, Selangor, Malaysia | Malaysia
Mexico City | Blas Pascal 205 Piso 3, Polanco I Seccion, Mexico City, Mexico 11510 | Mexico
Mounds View | 2222 Woodale Drive, Mounds View, Minnesota 55112 | United States
Montreal | 6505 Trans-Canada Highway, Suite 330, St. Laurent, Quebec, Canada H4T1S3 | Canada
Mumbai | Patina Block no 102, 1st Floor, C-59, G-Block, Mumbai, India 400 051 | India
Munich | Hopfenstrasse 6, Munich, Germany 80335 | Germany
Guangzhou | 1-3F, Building 2 (R&D Building A1), No. 25, South Huanshi Avenue, Nansha District Guangzhou, Guangdong Sheng, China 511458 | China
Guangzhou | Block B, Electronic Building, No. 8, Nanyun Er Road, Hangpu District, Guangzhou, China 510670 | China
Warsaw | Rownolegla 4, Warsaw, Poland 02-235 | Poland
Queretaro | Module K1 Unit 6 & 7 Kaizen Industrial Park, State Road 100, KM, 8+820, Colonia Galeras, Colon Municipality, Queretaro 76295 Mexico | Mexico
Rosenheim | Am Oberfeld 19, Rosenheim, Germany 83026 | Germany
Saint Aubin | Espace Technologique, De Saint-Aubins Baitmont Explorer, Route de L'Orme des Mersies, Saint Aubin, France 91190 | France
Sao Paulo | Av. Engenheiro Luis, Carlos Berrini, 105, 23th Floor, Brooklin, Sao Paulo, Brazil 0451-010 | Brazil
Shanghai | 29 F, Wheelock Square, No. 1717 West Nanjing Road, Shanghai, China 200040 | China
Suzhou | No. 2, Chengwan Road, Suzhou Industrial Park, Suzhou, Jiangsu, China 215122 | China
Taoyuan | No. 2 Wenming 1st Street Guishan District, Taoyuan, Taiwan 333 | Taiwan
Samutprakarn | 888 Moo 5, Srinakarin Road, Tambol Samrong Nua Amphur Muang Samutprakarn, 10270 | Thailand
Tokyo | 6F, Marunouchi Trust Tower, 1-8-3 Marunouchi Chiyoda-ku, Tokyo, Japan 100-0005 | Japan
Krefeld-Uerdingen | Rheinufestr. 7-9 Building R33, Krefeld-Uerdingen, Germany, 47829 | Germany
Bayrakli—Izmir | Adlet Mah. Sehit Polis, Fethi Sekin Cad. Ventus Tower No:6 Ic Kapi No: 241, Bayrakli-Izmir Turkey 35530 | Turkey
Beijing | 11/F, Tower W3, Oriental Plaza, No. 1, East Chang'an Avenue, Dongcheng District, Beijing, China 100738 | China
Richmond | #130-137775, Commerce Parkway, Richmond, British Columbia, V6V2V4 Canada | Canada
Vancouver | 14301 SE 1st Street, Suite 140, Vancouver, Washington 98684 | United States
Warrington | 220 Cygnet Court, Centre Park, Warrington, Chesire, WA1 1PP, United Kingdom | United Kingdom
Kwai Chung N.T. | 19F, Watson Centre, 16-22 Kung Yip Street, Kwai Chung N.T. Hong Kong | Hong Kong
Xiamen | 17/F, The Bank Centre, No. 189 Xxiahe Road, Xiamen, China 361004 | China
Zhongshan | Block C, C101-102 &, C202 -202, No.8, Jinsan Avenue East, Sanjiao Town, Zhongshan China 528445 | China

A. Conditions

In addition to those conditions already required by 29 CFR 1910.7, UL must abide by the following conditions of the recognition:

1. UL must inform OSHA as soon as possible, in writing, of any change of ownership, facilities, or key personnel, and of any major change in its operations as a NRTL, and provide details of the change(s);

2. UL must meet all the terms of its recognition and comply with all OSHA policies pertaining to this recognition; and

3. UL must continue to meet the requirements for recognition, including all previously published conditions on UL's scope of recognition, in all areas for which it has recognition.

Pursuant to the authority in 29 CFR 1910.7, OSHA hereby expands the scope of recognition of UL as a NRTL, subject to the limitations and conditions specified above.

III. Authority and Signature

James S. Frederick, Deputy Assistant Secretary of Labor for Occupational Safety and Health, authorized the preparation of this notice. Accordingly, the agency is issuing this notice pursuant to 29 U.S.C. 657(g)(2), Secretary of Labor's Order No. 8-2020 (85 FR 58393, Sept. 18, 2020), and 29 CFR 1910.7.

Signed at Washington, DC.
James S. Frederick,
Deputy Assistant Secretary of Labor for Occupational Safety and Health.

[FR Doc. 2023-20776 Filed 9-25-23; 8:45 am]

BILLING CODE 4510-26-P